DEPARTMENT OF HOMELAND SECURITY

Office of the Secretary

[Docket No. DHS-2022-0048]

DHS Data Privacy and Integrity Advisory Committee

AGENCY: Privacy Office, DHS.

ACTION: Committee management; withdrawal of notice.

SUMMARY: On July 12, 2022, the Department of Homeland Security (DHS) published a notice in the Federal Register announcing the renewal of the DHS Data Privacy and Integrity Advisory Committee (DPIAC). The notice is hereby withdrawn.

DATES: The document published at 87 FR 41343 on July 12, 2022 is withdrawn as of October 21, 2022.

FOR FURTHER INFORMATION CONTACT: Sandra L. Taylor, Designated Federal Officer, DHS Data Privacy and Integrity Advisory Committee, Department of Homeland Security, Privacy Office, Mail Stop 0655, 2707 Martin Luther King Jr. Ave. SE, Washington, DC 20598-0655, by telephone (202) 343-1717, by fax (202) 343-4010, or by email to privacycommittee@hq.dhs.gov.

SUPPLEMENTARY INFORMATION: On July 12, 2022, DHS published a notice in the Federal Register announcing the renewal of the DPIAC. This notice was published in error. For the correct notice, please see the notice of re-establishment of the DPIAC, published at 87 FR 44140 on July 25, 2022.

Lynn Parker Dupree,
Chief Privacy Officer, Department of Homeland Security.

[FR Doc. 2022-22847 Filed 10-20-22; 8:45 am]

BILLING CODE 9110-9L-P